DEPARTMENT OF COMMERCE

National Telecommunications and Information Administration

Information Session for the Public Wireless Supply Chain Innovation Fund's First Notice of Funding Opportunity (NOFO)

AGENCY: National Telecommunications and Information Administration, Department of Commerce.

ACTION: Notice of open meeting.

SUMMARY: This notice announces a public information session following the launch of the Public Wireless Supply Chain Innovation Fund's first Notice of Funding Opportunity (NOFO). The event will provide an opportunity for the program team to discuss the technical aspects of the NOFO, as well as best practices for applicants navigating the federal awards process. The session will also provide interested applicants with the opportunity to ask questions.

DATES: The meeting will be held May 4, 2023, from 9:00 a.m. to 12:00 p.m., Eastern Standard Time (EST).

ADDRESSES: This meeting will be held in-person at the U.S. Department of the Interior Yates Auditorium (1849 C St. NW, Washington, DC 20240). If you are unable to attend in person, please email InnovationFund@ntia.gov with questions you would like to be addressed during the question and answer portion at least two (2) days in advance of the meeting.

FOR FURTHER INFORMATION CONTACT: Please refer to https://ntia.gov/page/public-wireless-supply-chain-innovation-fund for the most up-to-date information on this event. Stakeholders can register to attend in-person at https://forms.office.com/g/rfmeqWFbt4. Please direct questions regarding this Notice to innovationfund@ntia.gov, indicating “Innovation Fund NOFO Launch” in the subject line, or if by mail, addressed to National Telecommunications and Information Administration, U.S. Department of Commerce, 1401 Constitution Avenue NW, Washington, DC 20230; or by telephone to Sarah Skaluba, 202-482-3806. Please direct media inquiries to NTIA's Office of Public Affairs, press@ntia.gov.

SUPPLEMENTARY INFORMATION:

Background: On August 9, 2022, President Biden signed the CHIPS and Science Act of 2022 (Pub. L. 117-167, Div. A, Sect. 106, 136 Stat. 1392) into law, appropriating $1.5 billion for the Public Wireless Supply Chain Innovation Fund (referred to subsequently herein as the “Innovation Fund”), to support the promotion and deployment of open, interoperable, and standards-based radio access networks (RAN). The Innovation Fund is authorized under section 9202(a)(1) of the William M. (Mac) Thornberry National Defense Authorization Act for Fiscal Year 2021 (Pub. L. 116-283; 47 U.S.C. 906(a)(1)). This historic investment aims to support U.S. leadership in the global telecommunications ecosystem, foster competition, lower costs for consumers and network operators, and strengthen our supply chain.

This event will provide an opportunity for the public to learn more about the Innovation Fund and the program's first NOFO, as well as ask the program team questions.

While not required, NTIA asks that attendees provide registration information prior to the event to include name, email address, and organization (optional). Attendees can register at https://forms.office.com/g/rfmeqWFbt4. The agenda, including any updates, will be made available on NTIA's website.

Matters To Be Considered: The launch event will include an overview of the Innovation Fund program, a technical overview of the NOFO, NOFO application best practices and guidelines, and a question and answer discussion. NTIA will post a detailed agenda on its website, https://ntia.gov/page/public-wireless-supply-chain-innovation-fund, prior to the meeting.

Time and Date: The meeting will be held on May 4, 2023, from 9:00 a.m. to 12:00 p.m., Eastern Standard Time (EST). The meeting time and the agenda topics are subject to change. Please refer to NTIA's website, https://ntia.gov/page/public-wireless-supply-chain-innovation-fund, for the most up-to-date meeting agenda and access information.

Place: This meeting will be conducted in-person and open to the public. Individuals requiring accommodations are asked to notify the Public Wireless Supply Chain Innovation Fund team at InnovationFund@ntia.gov at least two (2) business days before the meeting.

Status: Interested parties are invited to join the meeting on May 4 at 9:00 a.m. EST. Interested parties unable to attend in person should submit questions to InnovationFund@ntia.gov. Parties wishing to submit written questions for consideration in advance of the meeting are strongly encouraged to submit their comments in Microsoft Word and/or PDF form. Questions must be received two (2) business days before the scheduled meeting date in order to provide sufficient time for review. Comments received after this date will be distributed to the program team but may not be addressed at the meeting. Additionally, please note that there may be a delay in the distribution of questions submitted via postal mail to program team members.

Stephanie Weiner,
Acting Chief Counsel, National Telecommunications and Information Administration.

[FR Doc. 2023-08784 Filed 4-25-23; 8:45 am]

BILLING CODE 3510-60-P